DEPARTMENT OF DEFENSE

Office of the Secretary

[Docket ID: DOD-2024-OS-0152]

Submission for OMB Review; Comment Request

AGENCY: Office of the Under Secretary of Defense for Personnel and Readiness (OUSD (P&R)), Department of Defense (DoD).

ACTION: 30-day information collection notice.

SUMMARY: The DoD has submitted to the Office of Management and Budget (OMB) for clearance the following proposal for collection of information under the provisions of the Paperwork Reduction Act.

DATES: Consideration will be given to all comments received by July 18, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, whs.mc-alex.esd.mbx.dd-dod-information-collections@mail.mil.

SUPPLEMENTARY INFORMATION:

Title; Associated Form; and OMB Number: Associated Form; and OMB Number: Defense Sexual Assault Incident Reporting; DD Form 2965, 2910, 2910-1, 2910-2, 2910-3, 2910-4; OMB Control Number 0704-0482.

Type of Request: New.

Number of Respondents: 250.

Responses per Respondent: 1.

Annual Responses: 250.

Average Burden per Response: 12 hours.

Annual Burden Hours: 3,000.

Needs and Uses: The DoD Voluntary Education Partnership Memorandum of Understanding (MOU) Institutional Compliance Program (ICP) is a full-scale, risk-based compliance program that assesses institutional compliance to reduce risks associated with non-compliance. Each year, the ICP team considers the entire population of MOU signatories, leveraging over 24,000 pieces of data to narrow the population from over 2,700 to 250, and then conducts an in-depth assessment on those 250 institutions. The team then provided critical feedback to those institutions to enable them to implement Corrective Action Plans to improve their individual level of compliance with the tenets of their MOUs.

Affected Public: Educational Institutions.

Frequency: On occasion.

Respondent's Obligation: Voluntary.

DoD Clearance Officer: Mr. Reginald Lucas.

Dated: June 13, 2025.
Stephanie J. Bost,
Alternate OSD Federal Register Liaison Officer, Department of Defense.

[FR Doc. 2025-11195 Filed 6-17-25; 8:45 am]

BILLING CODE 6001-FR-P